DEPARTMENT OF ENERGY

Federal Energy Regulatory Commission

[Project No. 12496-002]

Rugraw, LLC: Notice of Application Tendered for Filing With the Commission and Soliciting Additional Study Requests

Take notice that the following hydroelectric application has been filed with the Commission and is available for public inspection.

a. Type of Application: Major original license

b. Project No.: 12496-002

c. Date filed: April 21, 2014

d. Applicant: Rugraw, LLC

e. Name of Project: Lassen Lodge Hydroelectric Project

f. Location: On the South Fork Battle Creek, nearby the Town of Mineral, Tehama County, California. No federal lands or Indian reservations are located within the proposed project boundary.

g. Filed Pursuant to: Federal Power Act 16 U.S.C. 791 (a)-825(r)

h. Applicant Contact: Charlie Kuffner, 70 Paseo Mirasol, Tiburon, CA 94920; (415) 652-8553

i. FERC Contact: Adam Beeco at (202) 502-8655; email—adam.beeco@ferc.gov

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 20, 2014

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12496-002.

m. The application is not ready for environmental analysis at this time.

n. The proposed Lassen Lodge Project consists of: (1) A 6-foot-high and 94-foot-long diversion dam; (2) an impoundment of approximately 0.5 acre; (3) a 20 by 10 foot enclosed concrete intake structure; (4) a 7,258-foot-long pipeline and a 5,230-foot-long penstock with a net head of 791 feet; (5) a 50 by 50 foot powerhouse containing one generating unit with a 5,000-kilowatt capacity; (6) a 50 by 50 foot substation area; (7) a 40 by 35 foot switchyard; (8) 100 by 100 foot multipurpose area; and (9) a new 12-mile-long, 60-kilovolt transmission line. The project is estimated to produce approximately 25,000,000 kilowatt-hours annually.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Acceptance or Deficiency Letter | June 2014
Request Additional Information | June 2014
Issue Acceptance Letter | September 2014
Issue Scoping Document 1 for Comments | October 2014
Request Additional Information (if necessary) | December 2014
Issue Scoping Document 2 (if necessary) | January 2015
Notice that application is ready for environmental analysis | January 2015
Notice of the availability of the draft EA | July 2015
Notice of the availability of the final EA | October 2015

Dated: April 29, 2014.
Kimberly D. Bose,
Secretary.

[FR Doc. 2014-10338 Filed 5-5-14; 8:45 am]

BILLING CODE 6717-01-P